ENVIRONMENTAL PROTECTION AGENCY

[EPA-HQ-OEI-2010-0835; FRL-9265-8]

Agency Information Collection Activities; Proposed Collections; Toxic Chemical Release Reporting; Request for Comments on Proposed Renewal of Form R and Form A, Including Minor Form Revisions and the Ratio-Based Burden Methodology

AGENCY: Environmental Protection Agency.

ACTION: Notice.

SUMMARY: In compliance with the Paperwork Reduction Act (PRA)(44 U.S.C. 3501 et seq.), EPA is planning to submit a request to renew an existing approved Information Collection Request (ICR) to the Office of Management and Budget (OMB). This ICR is scheduled to expire on July 31, 2011. The ICR Supporting Statement, which is summarized below and also posted in the docket, along with a technical document titled “Revising TRI Burden to Ratio-Based Methodology,” describes the nature of the information collection (including proposed form changes) and its estimated burden and cost. Before submitting the ICR to OMB for review and approval, EPA is soliciting comments on specific aspects of the proposed information collection as described below.

DATES: Comments must be submitted on or before April 12, 2011.

ADDRESSES: Submit your comments, referencing Docket ID No. EPA-HQ-OEI-2010-0835, by one of the following methods:

• U.S. Government Web site for Federal Rulemaking, follow the on-line instructions for submitting comments.

• E-mail: oei.docket@epa.gov.

• Fax: 202-566-9744.

• Mail: Office of Environmental Information (OEI) Docket, U.S. Environmental Protection Agency, Mail Code 2822T, 1200 Pennsylvania Ave., NW., Washington, DC 20460.

• Hand Delivery: Public Reading Room, EPA West Building, Room 3334, 1301 Constitution Avenue, NW., Washington, DC 20004. Such deliveries are only accepted during the docket's normal hours of operations, 8:30 a.m. to 4:30 p.m., Monday through Friday, excluding legal holidays. Special arrangements should be made for deliveries of boxed information.

Instructions: To submit a comment to the docket, direct your comments to Docket ID No. EPA-HQ-OEI-2010-0835. EPA's policy is that all comments received will be included in the public docket without change and will be made available online at http://www.regulations.gov, including any personal information that has been provided, unless the comment includes information claimed to be Confidential Business Information (CBI) or other information for which disclosure is restricted by statute. Do not submit information that is considered to be CBI or otherwise protected information through http://www.regulations.gov or e-mail. The http://www.regulations.gov Web site is an “anonymous access” system, which means that EPA will not know your identity or contact information unless you provide it in the body of your comments. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. When preparing electronic files, avoid using special characters or any form of encryption and ensure that the electronic files to be submitted are free of any defects or viruses. For additional information about EPA's public docket visit the EPA Docket Center homepage at http://www.epa.gov/epahome/dockets.htm.

FOR FURTHER INFORMATION CONTACT: Cassandra Vail, Toxics Release Inventory Program Division, Office of Information Analysis and Access (2844T), Environmental Protection Agency, 1200 Pennsylvania Ave., NW., Washington, DC 20460; telephone number, 202-566-0753; e-mail address, vail.cassandra@epa.gov.

SUPPLEMENTARY INFORMATION:

How can I access the docket and/or submit comments?

EPA has established a public docket for the ICR described in this notice under Docket ID No. EPA-HQ-OEI-2010-0835, which is available for online viewing at http://www.regulations.gov. Go to http://www.regulations.gov to obtain a copy of the proposed collection of information, to submit or view public comments, to obtain an index of the docket contents, and to obtain those documents in the public docket that are available electronically. Once in the system, select “search,” then enter the docket ID number identified in this document.

The docket is also available for viewing in person at the OEI Docket, EPA Docket Center (EPA/DC), U.S. EPA West Building, Room 3334, 1301 Constitution Ave., NW., Washington, DC. The EPA/DC Public Reading Room is open from 8:30 a.m. to 4:30 p.m., Monday through Friday, excluding legal holidays. The phone number for the Reading Room is 202-566-1744, and the phone number for the OEI Docket is 202-566-1752.

In which information is EPA particularly interested?

Pursuant to section 3506(c)(2)(a) of the Paperwork Reduction Act (PRA), EPA specifically solicits comments and information to enable it to:

1. Evaluate whether the proposed collection of information is necessary for the proper performance of the functions of the Agency, including whether the information will have practical utility;

2. Evaluate the accuracy of the Agency's estimate of the burden of the proposed collection of information, including the validity of the new Ratio-Based Burden Methodology;

3. Enhance the quality, utility, and clarity of the information to be collected; and

4. Minimize the burden of the collection of information on those who are to respond, including through the use of appropriate automated electronic, mechanical, or other technological collection techniques or other forms of information technology, e.g., permitting the electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples;

2. Describe any assumptions that you used;

3. Provide copies of any technical information and/or data you used that support your views;

4. If you provide estimates of potential burden hours or labor costs, explain how you arrived at your estimates;

5. Offer alternative ways to improve the collection activity;

6. Make sure to submit your comments by the deadline identified under DATES; and

7. To ensure proper receipt by EPA, identify the docket ID number assigned to this action in the subject line on the first page of your response. You may also provide the name, date, and Federal Register citation.

What information collection activity or ICR does this apply to?

Affected Entities: This ICR applies to facilities that submit annual reports under section 313 of the Emergency Planning and Community Right-to-Know Act (EPCRA) and section 6607 of the Pollution Prevention Act (PPA). The applicability criteria are outlined in part 372, subpart B, of Title 40 of the Code of Federal Regulations, and potentially affected categories and entities may include, but are not limited to the following:

Category | Examples of potentially affected entities
Industry | Facilities included in the following NAICS manufacturing codes (corresponding to SIC codes 20 through 39): 311*, 312*, 313*, 314*, 315*, 316, 321, 322, 323*, 324, 325*, 326*, 327, 331, 332, 333, 334*, 335*, 336, 337*, 339*, 111998*, 211112*, 212324*, 212325*, 212393*, 212399*, 488390*, 511110, 511120, 511130, 511140*, 511191, 511199, 512220, 512230*, 519130*, 541712*, or 811490*.
| * Exceptions and/or limitations exist for these NAICS codes.
| Facilities included in the following NAICS codes (corresponding to SIC codes other than SIC codes 20 through 39): 212111, 212112, 212113 (correspond to SIC 12, Coal Mining (except 1241)); or 212221, 212222, 212231, 212234, 212299 (correspond to SIC 10, Metal Mining (except 1011, 1081, and 1094)); or 221111, 221112, 221113, 221119, 221121, 221122, 221330 (Limited to facilities that combust coal and/or oil for the purpose of generating power for distribution in commerce) (correspond to SIC 4911, 4931, and 4939, Electric Utilities); or 424690, 425110, 425120 (Limited to facilities previously classified in SIC 5169, Chemicals and Allied Products, Not Elsewhere Classified); or 424710 (corresponds to SIC 5171, Petroleum Bulk Terminals and Plants); or 562112 (Limited to facilities primarily engaged in solvent recovery services on a contract or fee basis (previously classified under SIC 7389, Business Services, NEC)); or 562211, 562212, 562213, 562219, 562920 (Limited to facilities regulated under the Resource Conservation and Recovery Act, subtitle C, 42 U.S.C. 6921 et seq.) (correspond to SIC 4953, Refuse Systems).
Federal Government | Federal facilities.

If you have questions regarding the applicability of this action to a particular entity, consult the individual listed in the preceding FOR FURTHER INFORMATION CONTACT section.

Title: Toxic Chemical Release Reporting (Form R); Toxic Chemical Release Reporting, Alternate Threshold for Low Annual Reportable Amounts (Form A) and the Ratio-Based Burden Methodology.

ICR Numbers: EPA ICR No. 1363.21, OMB Control No. 2025-0009 (TRI Form R) and EPA ICR No. 1704.13, OMB Control No. 2025-0010 (TRI Form A Certification Statement). EPA proposes to combine these two ICRs into one overarching ICR, which will retain the OMB Control No. 2025-0009.

ICR Status: The ICRs for the TRI Form R and the TRI Form A Certification Statement are scheduled to expire on July 31, 2011.

Abstract: Pursuant to section 313 of EPCRA, certain facilities that manufacture, process, or otherwise use specified toxic chemicals in amounts above reporting threshold levels must submit annually to EPA and to designated State officials toxic chemical release forms containing information specified by EPA. 42 U.S.C. 11023. In addition, pursuant to section 6607 of the Pollution Prevention Act (PPA), facilities reporting under section 313 of EPCRA must also report pollution prevention and waste management data, including recycling information, for such chemicals. 42 U.S.C. 13106. These reports are compiled and stored in EPA's database known as the Toxics Release Inventory (TRI); TRI data are made readily available to the public.

Regulations at 40 CFR part 372, subpart B, require facilities that meet all of the following criteria to report:

1. The facility has 10 or more full-time employee equivalents (i.e., a total of 20,000 hours worked per year or greater; see 40 CFR 372.3); and

2. The facility is included in a North American Industry Classification System (NAICS) Code listed at 40 CFR 372.23 or under Executive Order 13148, Federal facilities regardless of their industry classification; and

3. The facility manufactures (defined to include importing), processes, or otherwise uses any EPCRA section 313 (TRI) chemical in quantities greater than the established thresholds for the specific chemical in the course of a calendar year.

Facilities that meet the criteria must file a Form R report or, in some cases, may submit a Form A Certification Statement, for each listed toxic chemical for which the criteria are met. As specified in EPCRA section 313(a), the report for any calendar year must be submitted on or before July 1st of the following year. For example, reporting year 2009 data should have been submitted and certified on or before July 1, 2010.

The list of toxic chemicals subject to TRI reporting can be found at 40 CFR 372.65. This list is also published every year as Table II in the current version of the Toxics Release Inventory Reporting Forms and Instructions. The current TRI chemical list contains 593 chemicals and 30 chemical categories.

TRI data are used by environmental agencies, industry, and the public. EPA program offices use TRI data, along with other data, to help establish programmatic priorities, evaluate potential hazards to human health and the natural environment, and undertake appropriate regulatory and/or enforcement activities. Environmental and public interest groups use the data to better understand toxic chemical releases at the community level and to work with industry, government agencies, and others to promote reductions in toxic chemical releases. Industrial facilities use the TRI data to evaluate the efficiency of their production processes and to help track and communicate their progress in achieving pollution prevention goals.

The TRI data are unique in providing a multi-media (air, water, and land) picture of toxic chemical releases, transfers, and other waste management activities by covered facilities on a yearly basis. While other environmental media programs provide some toxic chemical data and related permit data, the data are not directly comparable to TRI data with regard to the types of chemicals and industry sectors that are covered or the frequency of reporting. Facilities that are subject to TRI reporting must submit reports for each calendar year to EPA and the States in which they are located by July 1st of the following year.

Respondents may claim trade secrecy for a chemical's identity as described in EPCRA Section 322 and its implementing regulations in 40 CFR part 350. EPA will disclose information that is covered by a claim of trade secrecy only to the extent permitted by and in accordance with the procedures in 40 CFR part 350 and 40 CFR part 2.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to be 35.71 hours for Form R and 21.96 hours for a Form A. Burden means the total time, effort, or financial resources expended by persons to generate, maintain, retain, or disclose or provide information to or for a Federal agency. This includes the time needed to review instructions; develop, acquire, install, and utilize technology and systems for the purposes of collecting/validating/verifying information, processing and maintaining information, and disclosing and providing information; adjust existing ways to comply with any previously applicable instructions and requirements that have subsequently changed; train personnel to respond to a collection of information; search data sources; complete and review the collection of information; and transmit or otherwise disclose the information.

The ICR Supporting Statement provides a detailed explanation of the Agency's estimate for TRI program burden, including Form R/A burden, which is only briefly summarized here:

• Estimated total number of respondents (i.e., facilities): 20,871.

• Frequency of response: Annual.

• Estimated total average number of responses: 73,727.

• Estimated total average number of responses for each respondent: 3.53.

• Estimated total annual burden hours: 3,515,751 hours.

• Estimated total annual costs: $174,451,565.

What changes are included in this ICR?

OMB approved the ICR for Form R and the ICR for the Form A Certification Statement on March 2, 2008, with original expiration dates of March 31, 2011. On February 17, 2010, OMB approved an extension of the expiration dates for both forms to July 31, 2011. The OMB approved burden numbers on March 2, 2008, where 3,217,280 hours for Form R and 515,901 hours for Form A, totaling 3,733,181 hours.

Several changes in the burden estimates have been approved by OMB since the OMB approvals of the ICRs on March 2, 2008. On March 20, 2009, OMB approved the merging of the ICR for TRI detailed reporting on dioxin and dioxin-like compounds (OMB 2025-007, ICR 2086.02), into the TRI Form R ICR (currently OMB Control Number 2025-0009), increasing burden by 899 hours. Then on March 27, 2009, OMB approved changes in the number of responses and the burden hours for Form R and Form A to reflect the passage of Section 425 of the Omnibus Appropriations Act of 2009, which rescinded the December 2006 Toxics Release Inventory Burden Reduction Rule. As a result, the OMB-approved numbers for Form R were increased by 140,565 hours and for Form A burden were decreased by 318,418 yielding a net increase of 458,983 hours. Most recently, on November 26, 2010, the Addition of National Toxicology Program Carcinogens rule was published in the Federal Register. This rule is estimated to increase the number of reporting facilities by 74 and the number of Form Rs submitted by 186 with an associated burden increase of 6,641 hours.

Meanwhile, over the past several years, there has been a slight decrease in the number of facilities reporting to TRI. Based on the latest data for Reporting Year 2009 plus updates to reflect changes during the year of the ICR project—in this case, the modeled number of chemicals and facilities estimated to report under the Addition of National Toxicology Program Carcinogens rule, EPA now estimates the total number of combined Form R and Form A responses to be 73,727, with the associated total annual burden hours to be 3,515,751, and the annual cost to be $174,451,565. For a detailed explanation of the Agency's estimates of the respondent reporting burden and labor costs, please refer to the proposed TRI Form R and A Supporting Statement and the document “Revising TRI Burden to Ratio-Based Methodology,” which are available in the docket.

EPA is interested in comments regarding methodology revisions documented in the peer-reviewed technical document titled, “Revising TRI Burden to Ratio-Based Methodology,” which is available through the docket. The revised methodology, Ratio-Based Burden Methodology (RBBM), simplifies calculations, imposes internal consistency, and sharpens transparency while retaining the components of the existing methodology and maintaining the overall total burden estimate as a starting point. EPA invites comments specifically regarding evidence that would quantify the ratio of PBT/non-PBT burden for the TRI reporting community overall.

Additionally EPA is seeking comments on an alternate instruction for the revision of Form R Section 8.11 in which facilities report ongoing and newly implemented source reduction activities. The alternate instructions would limit the scope of “ongoing source reduction activities” to those implemented in the previous five years.

EPA is proposing to make several changes to the TRI reporting forms and associated instructions, but these changes are estimated to have a negligible effect on form unit burden. The proposed changes, which are outlined below, are designed to help enhance the overall utility of the data collected under the TRI Program.

1. Remove the NA box from the Parent Company field (Part I: Sec. 5,.5.1) Rationale: The NA box is currently used to indicate a foreign parent company. Removing this box and requiring facilities to report the highest level U.S. parent company will facilitate analysis of the TRI data at the parent company level.

2. Disaggregate the “Total Transfers” field and add fields to identify chemical discharge quantities to specific publicly owned treatment works (POTWs) (Part II: Sec 6.1). Rationale: The current form collects a single “Total Transfer” quantity for transfers to all POTWs. Providing separate fields for the transfer quantity to each POTW will facilitate analysis of the releases to specific watersheds.

3. Section 8 enhancements, including:

• Change instructional statement on form to include “newly implemented and/or ongoing” source reduction activities (Part II: Sec. 8.10).

• Add an N/A box to match associated text revisions (Part II: Sec. 8.10).

• Add a field to allow separate reporting for both new and ongoing source reduction activities (Part II: Sec. 8.10, 8.10.1-4).

• Remove the “Yes” box and enlarge the text section for the question on optional pollution prevention information (Part II: Section 8.11).

Rationale: The current form requests information on “any source reduction activities for this chemical during the reporting year;” but the Reporting Forms and Instructions request information on “newly implemented” source reduction activities. These form changes will remove this difference, allow facilities to distinguish between new and ongoing source reduction activities, and provide additional optional information on source reduction, recycling, or pollution control activities on the form itself (in box 8.11).

4. Add a new question to capture miscellaneous and optional information regarding the submission (Part II: Sec. 9., 9.1). Rationale: This new text box will allow facilities to provide optional, miscellaneous information that may be helpful to EPA and/or the public in using or interpreting their data (e.g., facility closures, explanations for changes in release quantities, etc.).

5. Add NA boxes to Part II, Sections 5.3, 6.1, and 6.2. Rationale: Adding NA boxes to these sections will make the formatting of Form R and Form R Schedule 1 more consistent.

What is the next step in the process for these ICRs?

EPA will consider the comments received and amend the ICR as appropriate. The final ICR package will then be submitted to OMB for review and approval pursuant to 5 CFR 1320.12. At that time, EPA will issue another Federal Register notice for the ICR pursuant to 5 CFR 1320.5(a)(1)(iv) to announce the submission of the ICR to OMB and the opportunity to submit additional comments to OMB. If you have any questions about this ICR or the approval process, please contact the individual listed under FOR FURTHER INFORMATION CONTACT.

Dated: February 6, 2011.
Robin Gonzalez,
Acting Director, Office of Information Analysis and Access, Office of Environmental Information.

[FR Doc. 2011-3100 Filed 2-10-11; 8:45 am]

BILLING CODE 6560-50-P